DEPARTMENT OF TRANSPORTATION

Federal Aviation Administration

RTCA Special Committee 193/EUROCAE Working Group 44: Terrain and Airport Databases

AGENCY: Federal Aviation Administration (FAA), DOT.

ACTION: Notice of RTCA Special Committee 193/EUROCAE Working Group 44 meeting.

SUMMARY: The FAA is issuing this notice to advise the public of a meeting of RTCA Special Committee 193/EUROCAE Working Group 44: Terrain and Airport Databases.

DATES: The meeting will be held April 18-22, 2005, from 9 a.m.—5 p.m.

ADDRESSES: The meeting will be held at Hotel Mirado, Paseo Maritimo, 10, 07014 Palma de Mallorca, Spain.

FOR FURTHER INFORMATION CONTACT: (1) RTCA Secretariat, 1828 L Street, NW., Suite 805, Washington, DC, 20036; telephone (202) 833-9339; fax (202) 833-9434; Web site http://www.rtca.org. (2) Iben Andsager, telephone 34 696 71 65 87.

SUPPLEMENTARY INFORMATION: Pursuant to section 10(a)(2) of the Federal Advisory Committee Act (Pub. L. 92-463, 5 U.S.C., Appendix 2), notice is hereby given for a Special Committee 193/EUROCAE Working Group 44 meeting. The agenda will include:

• April 18:

• Opening Plenary Session (Welcome and Introductory Remarks, Review/Approval of Meeting Agenda, Review Summary of Previous Meeting).

• Presentations/Discussions.

• Subgroup 5 (Update to SC-193/WG-44 Documents).

• FRAC process for DO-272A/ED-99A.

• Evaluation of comments.

• Resolution of comments.

• FRAC process for DO-276A/ED-98A.

• Evaluation of comments.

• Resolution of comments.

• Presentation and Demonstration.

• April 19:

• Subgroup 5 (Continue previous day activities).

• April 20:

• Subgroup 5 (Continue previous day activities).

• April 21:

• Subgroup 5 (Continue previous day activities).

• April 22:

• Closing Plenary Session (Summary of Subgroup 5, Assign Tasks, Other Business, Date and Place of Next Meeting, Adjourn).

Attendance is open to the interested public but limited to space availability. With the approval of the chairmen, members of the public may present oral statements at the meeting. Persons wishing to present statements or obtain information should contact the person listed in the FOR FURTHER INFORMATION CONTACT section. Members of the public may present a written statement to the committee at any time.

Dated: Issued in Washington, DC, on March 29, 2005.
Natalie Ogletree,
General Engineer, RTCA Advisory Committee.

[FR Doc. 05-7188 Filed 4-8-05; 8:45 am]

BILLING CODE 4910-13-M